DEPARTMENT OF LABOR

Employment and Training Administration

[TA-W-63,913]

Five Rivers Electronic Innovations, LLC, Greeneville, TN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 30, 2008, applicable to workers of Five Rivers Electronic Innovations, LLC, Greeneville, Tennessee. The notice was published in the Federal Register on October 20, 2008 (73 FR 62322).

At the request of the State agency, the Department reviewed the certification for workers of the subject firm. The workers produce printed circuit board assemblies.

Findings show that the workers producing printed circuit board assemblies at the subject firm are separately identifiable from workers of Five Rivers Electronic Innovations, LLC in Greeneville, Tennessee that were previously covered by certifications as follows: TA-W-58,628 Color Television Product Line; TA-W-58,628A Plastic Parts Product Line; and TA-W-58,628B Distribution/Warehouse Center. Each of these certifications expired February 7, 2008.

The current certification is being amended to limit the coverage to workers of Five Rivers Electronic Innovations, LLC, Greeneville, Tennessee, engaged in employment related to the production of printed circuit board assemblies.

The amended notice applicable to TA-W-63,913 is hereby issued as follows:

Workers of Five Rivers Electronic Innovations, LLC, Greeneville, Tennessee, engaged in employment related to the production of printed circuit board assemblies, who became totally or partially separated from employment on or after August 19, 2007 through September 30, 2010, are eligible to apply for adjustment assistance under Section 223 of the Trade Act of 1974, and are also eligible to apply for alternative trade adjustment assistance under Section 246 of the Trade Act of 1974.

Signed in Washington, DC, this 29th day of December, 2008.
Linda G. Poole,
Certifying Officer, Division of Trade Adjustment Assistance.

[FR Doc. E8-31329 Filed 1-5-09; 8:45 am]

BILLING CODE 4510-FN-P